DEPARTMENT OF VETERANS AFFAIRS

[OMB Control No. 2900-0571]

Agency Information Collection (NCA Customer Satisfaction Surveys (Headstone/Marker)) Activity Under OMB Review

AGENCY: National Cemetery Administration, Department of Veterans Affairs.

ACTION: Notice.

SUMMARY: In compliance with the Paperwork Reduction Act (PRA) of 1995 (44 U.S.C. 3501-3521), this notice announces that the National Cemetery Administration, Department of Veterans Affairs, will submit the collection of information abstracted below to the Office of Management and Budget (OMB) for review and comment. The PRA submission describes the nature of the information collection and its expected cost and burden; it includes the actual data collection instrument.

DATES: Comments must be submitted on or before February 22, 2010.

ADDRESSES: Submit written comments on the collection of information through http://www.Regulations.gov; or to VA's OMB Desk Officer, OMB Human Resources and Housing Branch, New Executive Office Building, Room 10235, Washington, DC 20503 (202) 395-7316. Please refer to “OMB Control No. 2900-0571” in any correspondence.

FOR FURTHER INFORMATION CONTACT: Denise McLamb, Enterprise Records Service (005R1B), Department of Veterans Affairs, 810 Vermont Avenue, NW., Washington, DC 20420, (202) 461-7485, FAX (202) 273-0443 or e-mail denise.mclamb@mail.va.gov. Please refer to “OMB Control No. 2900-0571.”

SUPPLEMENTARY INFORMATION: Title: Generic Clearance for NCA, and IG Customer Satisfaction Surveys.

OMB Control Number: 2900-0571.

Type of Review: Extension of a currently approved collection.

Abstract: Executive Order 12862, Setting Customer Service Standards, requires Federal agencies and Departments to identify and survey its customers to determine the kind and quality of services they want and their level of satisfaction with existing service. VA will use the data collected to maintain ongoing measures of performance and to determine how well customer service standards are met.

An agency may not conduct or sponsor, and a person is not required to respond to a collection of information unless it displays a currently valid OMB control number. The Federal Register Notice with a 60-day comment period soliciting comments on this collection of information was published on November 12, 2009, at pages 58373-58374.

Affected Public: Individuals or households.

Estimated Annual Burden Hours, Burden per Respondents, and Number of Respondents

I. National Cemetery Administration Focus Groups

a. Next of Kin (5 groups/10/participants per group/3 hours each session) = 150 hours.

b. Funeral Directors (5 groups/10 participants per group/3 hours each session) = 150 hours.

c. Veterans Service Organizations (5 groups/10 participants per group/3 hours each session) = 150 hours.

II. National Cemetery Administration Visitor Comments Cards (Local Use)

(2,500 respondents/5 minutes per card) = 208 hours.

III. National Cemetery Administration Mail Surveys

a. Next of Kin National Customer Satisfaction Survey (Mail to 15,000 respondents/30 minutes per survey) = 7,500 hours.

b. Funeral Directors National Customer Satisfaction Survey (Mail to 4,000 respondents/30 minutes per survey) = 2,000 hours.

c. Veterans-At-Large National Customer Satisfaction Survey (Mail to 5,000 respondents/30 minutes per survey) = 2,500 hours.

IV. Program/Specialized Service Survey

National Cemetery Administration Headstone and Marker/PMC Survey (Mail to 6,000 surveys/15 minutes per survey) = 1,000.

Frequency of Response: Annually.

Dated: January 15, 2010.
By direction of the Secretary.
Denise McLamb,
Program Analyst, Enterprise Records Service.

[FR Doc. 2010-1029 Filed 1-20-10; 8:45 am]

BILLING CODE 8320-01-P